DEPARTMENT OF THE INTERIOR

Bureau of Land Management

[CO-600-03-1010-BN-241A]

Notice of Public Meeting, Northwest Colorado Resource Advisory Council Meeting

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM), Northwest Colorado Resource Advisory Council (RAC) meeting will be held on October 30 at 10 a.m. at the Battlement Mesa Activity Center, 0398 Arroyo Drive, Parachute, Colorado. Public comment will be from 11 a.m. to 11:30 a.m.

DATES: The Northwest Colorado RAC meeting will be held on October 30, 2003.

FOR FURTHER INFORMATION CONTACT: John Husband, BLM Little Snake Field Office Manager, 455 Emerson St., Craig, Colorado; Telephone 970-826-5000.

SUPPLEMENTARY INFORMATION: The Northwest Colorado RAC advise the Secretary of the Interior, through the Bureau of Land Management, on a variety of public land issues in Colorado.

The purpose of the meeting is to finalize the RAC's recommendations for the Sustaining Working Landscapes Initiative.

These meetings are open to the public. The public may present written comments to the RAC. Each formal RAC meeting will also have time, as identified above, allocated for hearing public comments. Depending on the number of persons wishing to comment and time available, the time for individual oral comments may be limited.

Summary minutes of RAC meetings are maintained in the BLM Western Slope Center Office located at 2815 H Road, Grand Junction, CO 81506, phone (970) 244-3000. Minutes are available for public inspection and reproduction during regular business hours within thirty (30) days following the meeting.

Dated: September 9, 2003.
Steven B. Hall,
Western Slope Public Affairs Specialist.

[FR Doc. 03-23681 Filed 9-16-03; 8:45 am]

BILLING CODE 4310-AG-P